DEPARTMENT OF EDUCATION

[Docket No.: ED-2024-SCC-0034]

Agency Information Collection Activities; Submission to the Office of Management and Budget for Review and Approval; Comment Request; Follow-Up Surveys to the 2023-24 NTPS: 2024-25 Teacher Follow-Up Survey (TFS) and 2024-25 Principal Follow-Up

AGENCY: National Center for Education Statistics (NCES), Department of Education (ED).

ACTION: Notice.

SUMMARY: In accordance with the Paperwork Reduction Act (PRA) of 1995, the Department is proposing a revision of a currently approved information collection request (ICR).

DATES: Interested persons are invited to submit comments on or before June 12, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carrie Clarady, (202) 245-6347.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Follow-Up Surveys to the 2023-24 NTPS: 2024-25 Teacher Follow-Up Survey (TFS) and 2024-25 Principal Follow-Up.

OMB Control Number: 1850-0617.

Type of Review: Revision of a currently approved ICR.

Respondents/Affected Public: Individuals or Households.

Total Estimated Number of Annual Responses: 25,427.

Total Estimated Number of Annual Burden Hours: 3,868.

Abstract: This request is to conduct data collection for the two follow-up surveys to the 2023-24 National Teacher and Principal Survey (NTPS) the 2024-25 Teacher Follow-up Survey (TFS) and the 2024-25 Principal Follow-up Survey (PFS). The 2024-25 TFS is a one year follow-up of a subsample of teachers who responded to the 2023-24 NTPS, and the 2024-25 PFS is a one year follow-up of principals who responded to the 2023-24 NTPS. The TFS and PFS are conducted by the National Center for Education Statistics (NCES), of the Institute of Education Sciences (IES), within the U.S. Department of Education (ED).

The 2024-25 TFS and 2024-25 PFS, like earlier TFS and PFS collections, will measure the one year attrition rates of teachers and principals, respectively, who leave the profession and will permit comparisons of stayers, movers, and leavers to fulfill the legislative mandate for NCES to report on the condition of education in the United States. Stayers are teachers or principals who remain in the same school between the NTPS year of data collection and the follow-up year. Movers are teachers or principals who stay in the profession but change schools between the NTPS year and the follow-up year. Leavers are NTPS respondents who leave the teaching or principal profession between the NTPS year and the follow-up year.

The 2024-25 TFS analysis file will include TFS data in addition to data collected in the 2023-24 NTPS on teacher characteristics, qualifications, perceptions of the school environment and the teaching profession, and a host of other topics. Prior TFS data have played an important role in improving the understanding of the conditions that affect the balance between teacher attrition and retention. The NTPS and TFS provide national data on turnover in the teacher workforce, including rates of attrition from teaching, sources and characteristics of newly hired teachers, and characteristics and destinations of leavers. These data help shift the debate from the issue of teacher quantity to teacher quality; that is, from a focus on teacher shortages measured only in terms of the number of teaching positions left vacant to the qualifications and years of experience of teachers who stay in the classroom versus those who leave the profession. The cross-sectional repeated design of the TFS allows the analysis of trends related to these topics.

The 2024-25 PFS analysis file will include PFS data in addition to data on principal characteristics, qualifications, and perceptions of the school environment from data collected in the 2023-24 NTPS. Together, the NTPS and PFS will provide national data on turnover in the principal workforce, including rates of attrition from principalship, sources and characteristics of newly hired principals, characteristics and destinations of leavers, and due to the cross-sectional repeated design of the PFS, analyses of trends related to these topics.

This clearance request is to conduct both 2024-25 NTPS follow-up surveys (TFS and PFS), including all recruitment and data collection activities. This request seeks authorization for the 2024-25 TFS and 2024-25 PFS under the TFS single OMB number (OMB #1850-0617).

Following a 60-day public comment period, this submission will now undergo a 30-day public comment period. This submission includes Supporting Statement Part A (justification), Part B (collection of information employing statistical methods), and Part C (item justification); Appendix A (respondent contact materials) and Appendix B (questionnaires).

Dated: May 7, 2024.
Stephanie Valentine,
PRA Coordinator, Strategic Collections and Clearance, Governance and Strategy Division, Office of Chief Data Officer, Office of Planning, Evaluation and Policy Development.

[FR Doc. 2024-10277 Filed 5-10-24; 8:45 am]

BILLING CODE 4000-01-P